DEPARTMENT OF LABOR

Employment and Training Administration

Notice of a Change in Status of the Payable Periods in the Emergency Unemployment Compensation 2008 (EUC08) Program for Connecticut and Missouri

AGENCY: Employment and Training Administration, Labor.

ACTION: Notice.

SUMMARY: This notice announces a change in status of the payable periods in the Emergency Unemployment Compensation 2008 (EUC08) program for Connecticut and Missouri.

Public Law 111-312 extended provisions in Public Law 111-92 which amended prior laws to create a Third and Fourth Tier of benefits within the EUC08 program for qualified unemployed workers claiming benefits in high unemployment states. The Department of Labor produces a trigger notice indicating which states qualify for EUC08 benefits within Tiers Three and Four and provides the beginning and ending dates of payable periods for each qualifying state. The trigger notice covering state eligibility for the EUC08 program can be found at: http://ows.doleta.gov/unemploy/claims_arch.asp. The following changes have occurred since the publication of the last notice regarding these States' EUC08 status:

• Based on data released by the Bureau of Labor Statistics on January 24, 2012, the three month average, seasonally adjusted total unemployment rate for Connecticut and Missouri fell below the 8.5% threshold to remain “on” in Tier 4 of the EUC08 program. As a result, the current maximum potential entitlement for Connecticut and Missouri in the EUC08 program will decrease from 53 weeks to 47 weeks. The week ending February 18, 2012 will be the last week in which EUC claimants in Connecticut and Missouri can exhaust Tier 3, and establish Tier 4 eligibility. Under the phase-out provisions, claimants can receive any remaining entitlement they have in Tier 4 after February 18, 2012.

Information for Claimants

The duration of benefits payable in the EUC program, and the terms and conditions under which they are payable, are governed by public laws 110-252, 110-449, 111-5, 111-92, 111-118, 111-144, 111-157, 111-205, 111-312, and 112-78, and the operating instructions issued to the states by the U.S. Department of Labor. Persons who believe they may be entitled to additional benefits under the EUC08 program, or who wish to inquire about their rights under the program, should contact their State Workforce Agency.

FOR FURTHER INFORMATION CONTACT: Scott Gibbons, U.S. Department of Labor, Employment and Training Administration, Office of Unemployment Insurance, 200 Constitution Avenue NW., Frances Perkins Bldg. Room S-4524, Washington, DC 20210, telephone number (202) 693-3008 (this is not a toll-free number) or by email: gibbons.scott@dol.gov.

Signed in Washington, DC, this 16th day of February 2012.
Jane Oates,
Assistant Secretary, Employment and Training Administration.

[FR Doc. 2012-4294 Filed 2-23-12; 8:45 am]

BILLING CODE 4510-FW-P